DEPARTMENT OF JUSTICE

Notice of Lodging of Consent Decree Under the Comprehensive Environmental Response, Compensation, and Liability Act

Notice is hereby given that on January 27, 2004, a proposed Consent Decree in United States v. A-L Processors, f.k.a. Atlas-Lederer Co., et al., Civil Action No. C-3-91-309, was lodged with the United States District Court for the Southern District of Ohio.

In this action United States seeks the reimbursement of response costs in connection with the United Scrap Lead Superfund Site in Troy, Miami County, Ohio (“the Site”) pursuant to the Comprehensive Environmental Response, Compensation and Liability Act (“CERCLA”), 42 U.S.C. 9601 et seq. The Consent Decree resolves the United States' claims against Defendants Broadway Iron & Metal, Barker Junk Company, Inc., Moyers Auto Wrecking, and U.S. Waste materials, for response costs incurred as a result of the release or threatened release of hazardous substances at the Site. Two of these settlements are “ability-to-pay” settlements based on financial analyses conducted by the Department's Antitrust Corporate Finance Unit. All of the settling Defendants made de minimis contributions of waste to the Site. The four settling parties collectively will pay the United States $137,499.18. The United States' remaining outstanding costs exceed $9,000,000 and are being sought from the remaining defendants in this case.

The Consent Decree also resolves the United Scrap Lead Respondent Group's (“Respondent Group”) CERCLA claims against the same parties for response costs incurred by the Respondent Group in cleaning up the Site under an earlier Consent Decree. The settling parties will pay the Respondent Group a total of $38,782.55.

The Department of Justice will receive for a period of thirty (30) days from the date of this publication comments relating to the Consent Decree. Comments should be addressed to the Assistant Attorney General of the Environment and Natural Resources Division, Department of Justice, P.O. Box 7611, Washington, DC 20044, and should refer to United States v. A-L Processors, f.k.a. Atlas-Leaderer Co., et al., D.J. Ref. 90-11-3-279B.

The Consent Decree may be examined at the Office of the United States Attorney, Southern District of Ohio, Federal Building Room 602, 200 West Second Street, Dayton, Ohio, or at the Region 5 Office of the Environmental Protection Agency, 77 West Jackson Street, Chicago, Illinois 60604-3590. During the public comment period the proposed Consent Decree may also be examined on the following Department of Justice Web site, http://www.usdoj.gov/enrd/open.html. A copy of the proposed Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $5.75 (23 pages at 25 cents per page reproduction cost) payable to the U.S. Treasury.

William Brighton,
Assistant Chief, Environmental Enforcement Section, Environment and Natural Resources Division.

[FR Doc. 04-2316 Filed 2-4-04; 8:45 am]

BILLING CODE 4410-15-M